DEPARTMENT OF AGRICULTURE

Forest Service

Willamette Provincial Advisory Committee (PAC); Meeting

AGENCY: Forest Service, USDA.

ACTION: Action of meeting.

SUMMARY: The Willamette Province Advisory Committee (PAC) will meet on Thursday, June 15, 2000. The meeting is scheduled to begin at 9 a.m., and will conclude at approximately 2 p.m. The meeting will be held at the Salem Office of the Bureau of Land Management, 1717 Fabry Road SE, Salem, Oregon, (503) 375-5646. The tentative agenda includes: (1) Information sharing by PAC members, (2) Threatened and Endangered Species update—spotted owl, Canada lynx, (3) Public forum, (4) Presentation and discussion on FS Roadless area conservation DEIS, (5) PAC discussion and advice on rechartering membership.

The Public Forum is tentatively scheduled to begin at 10:30 a.m. Time allotted for individual presentations will be limited to 3-4 minutes and the total time allotted for the Public Forum will be 40 minutes. Written comments may be submitted prior to the June 15 meeting by sending them to Designated Federal Official Neal Forrester at the address given below.

FOR FURTHER INFORMATION CONTACT: For more information regarding this meeting, contact Designated Federal Official Neal Forrester; Willamette National Forest; 211 East Seventh Avenue; Eugene, Oregon 97401; (541) 465-6924.

Dated: May 23, 2000.
Darrell L. Kenops,
Forest Supervisor.

[FR Doc. 00-13387 Filed 5-26-00; 8:45 am]

BILLING CODE 3410-11-M